DEPARTMENT OF TRANSPORTATION

Federal Highway Administration

DEPARTMENT OF DEFENSE

Department of the Army, Corps of Engineers

Supplemental Environmental Impact Statement (SEIS), Salt Lake and Davis Counties, UT

AGENCIES: Federal Highway Administration (FHWA), DOT. Army Corps of engineers (USACE), DoD.

ACTION: Notice of intent.

SUMMARY: FHWA and USACE, as Federal joint lead agencies, are issuing this notice to inform the public and affected public agencies that an SEIS will be prepared in accordance with the National Environmental Policy Act of 1969 (NEPA) for Utah Department of Transportation's proposed construction of the Legacy Parkway project in Salt Lake and Davis Counties, Utah.

FHWA is a lead agency because it must approve the connection of the proposed project to Interstate 215 (I-215) and Interstate 15 (I-15); the USACE is a lead agency because it must issue a 404 permit pursuant to the Clean Water Act. The U.S. Environmental Protection Agency (EPA), U.S. Fish and Wildlife Service (USFWS) and Federal Transit Administration (FTA) have agreed to serve as “cooperating agencies” in the preparation and review of the SEIS.

FOR FURTHER INFORMATION CONTACT: Greg Punske, Environmental Program Manager, FHWA, 2520 West 4700 South, Suite 9A, Salt Lake City, Utah 84118 or Nancy Kang, Chief, Utah Office, USACE, 533 West 2600 South, Suite 150, Bountiful, Utah 84010. Written comments on the scope and content of the SEIS should be submitted to the above contacts by June 1, 2003.

SUPPLEMENTARY INFORMATION: The proposed action is the construction of the Legacy Parkway in the corridor from I-215 at 2100 North in Salt Lake City northward to I-15 and U.S. 89 near Farmington (approximately 14 miles). A multiple-use trail for pedestrians, bicyclists, and equestrians would parallel the highway. The proposed action is related to the three-part “Shared Solution” to 2020 transportation problems, which includes: (1) Constructing the Legacy Parkway; (2) improving and expanding I-15; and (3) expanding the public transit system, including transit, intelligent transportation systems (ITS), travel demand management (TDM) and transportation systems management (TSM). Separate environmental studies pursuant to NEPA are being prepared for improving and expanding I-15 and expansion of the public transit system.

The SEIS will supplement the June 2000 Legacy Parkway Final EIS (FEIS) (FHWA-UT-EIS-98-02-F), which was the subject of litigation and a court decision in Utahns for Better Transportation et al. v. U.S. Department of Transportation et al. (305 F.3d 1152 (10th Cir. 2002)). In accordance with that decision, several specific aspects of the FEIS require further study. Additionally, the FEIS will be re-evaluated to determine if any other information should be updated and revised as part of the SEIS process in accordance with FHWA NEPA regulations 23 CFR 771.129.

FHWA and USACE have made a preliminary determination to consider the following alternatives in the SEIS based on the court ruling: (1) The Denver and Rio Grande railroad (D&RG) alignment, which involves locating a portion of the Legacy Parkway within the railroad regional alignment corridor defined in the FEIS; (2) a narrower right-of-way for the proposed alignment; (3) alternative sequencing of the Shared Solution; (4) concurrent integration of the construction of the Legacy Parkway with expansion of public transit and (5) the No Build alternative. The SEIS will also consider impacts to wildlife, as required by the court.

To ensure that a full range of issues related to the proposed action are addressed and all significant issues are identified, comments and suggestions are invited from all interested parties. Comments or questions concerning the proposed action and the SEIS should be directed to the FHWA and USACE at the addresses given above. Scoping will be accomplished through public and interagency scoping meetings, as well as correspondence and meetings with interested persons, organizations, and Federal, State, and local agencies. Informational displays and written material will also be available throughout the time periods given.

An initial scoping meeting will be held on April 17, 2003, at the Woods Cross High School, 600 West 2200 South in Woods Cross from 4 p.m. to 8 p.m. Public notice will be given of the time and place of additional meetings.

(Catalog of Federal and Domestic Assistance Program Number 20.205, Highway Research, Planning and Construction. The regulations implementing Executive Order 12372 regarding intergovernmental consultation on Federal programs and activities apply to this program)
Issued on: March 26, 2003.
Gregory S. Punske,
Environmental Program Manager, FHWA, Salt Lake City, Utah.
Nancy Kang,
Chief, Utah Office, USACE, Salt Lake City, Utah.

[FR Doc. 03-7751 Filed 3-31-03; 8:45 am]

BILLING CODE 4910-22-M